DEPARTMENT OF COMMERCE

Submission for OMB Review; Comment Request

DOC has submitted to the Office of Management and Budget (OMB) for clearance the following proposal for collection of information under the provisions of the Paperwork Reduction Act (44 U.S.C. chapter 35).

Agency: U.S. Census Bureau.

Title: Generic Approval for MAF & TIGER Update Activities.

Form Number(s): Will vary by activity.

Agency Approval Number: 0607-0809.

Type of Request: Revision of a currently approved collection.

Burden: 3,725 hours.

Number of Respondents: 114,500.

Avg. Hours Per Response: 2 minutes.

Needs and Uses: The Census Bureau is seeking approval from the Office of Management and Budget (OMB) for an extension of the generic clearance for a number of activities it plans to conduct to create and update its Master Address File (MAF) and maintain the linkage between the MAF and the Topologically Integrated Geographic Encoding and Referencing (TIGER) database of address ranges and associated geographic information. The Census Bureau plans to use the MAF for post-Census 2000 evaluations and as a sampling frame for the American Community Survey and our other demographic current surveys. In the past, the Census Bureau has built a new address list for each decennial census. The MAF built during Census 2000 is meant to be kept current thereafter, eliminating the need to build a completely new address list for future censuses and surveys. The TIGER is a geographic system that maps the entire country in Census Blocks with applicable address range of living quarter location information. Linking MAF and TIGER allows us to assign each address to the appropriate Census Block, produce maps as needed and publish results at the appropriate level of geographic detail.

The generic clearance for the past three years has proved to be very beneficial to the Census Bureau. The generic clearance allowed us to focus our limited resources on actual operational planning and development of procedures. This extension will be especially beneficial over the upcoming three years by allowing us to focus on the other work involved in evaluating Census 2000 and keeping the MAF current.

The activities to be conducted are: Community Address Updating System (CAUS), Evaluation of the Quality of Geocodes, and Evaluation of the Block Splitting Operation for Tabulation. Other similar activities may be conducted as well.

Under the terms of this extension to the generic clearance, this request describes all planned activities for the entire period; we will not submit a separate clearance package for each updating activity. We will send a letter to OMB at least five days before the planned start of each activity that gives more exact details, examples of forms, and final estimates of respondent burden. We will also file a year-end summary with OMB after the close of each fiscal year giving results of each activity conducted.

Affected Public: Individuals or households.

Frequency: One time.

Respondent's Obligation: Mandatory.

Legal Authority: Title 13 U.S.C., Sections 141 and 193.

OMB Desk Officer: Susan Schechter, (202) 395-5103.

Copies of the above information collection proposal can be obtained by calling or writing Madeleine Clayton, Departmental Forms Clearance Officer, (202) 482-3129, Department of Commerce, room 6086, 14th and Constitution Avenue, NW., Washington, DC 20230 (or via the Internet at mclayton@doc.gov).

Written comments and recommendations for the proposed information collection should be sent within 30 days of publication of this notice to Susan Schechter, OMB Desk Officer, room 10201, New Executive Office Building, Washington, DC 20503.

Dated: February 13, 2001.
Madeleine Clayton,
Departmental Forms Clearance Officer, Office of the Chief Information Officer.

[FR Doc. 01-4018 Filed 2-15-01; 8:45 am]

BILLING CODE 3510-07-P